DEPARTMENT OF DEFENSE

Department of the Army, Corps of Engineers

Notice for the Great Lakes and Mississippi River Interbasin Study (GLMRIS); Extension of Public Comment Period

AGENCY: Department of the Army, U.S. Army Corps of Engineers, DOD.

ACTION: Notice of Extension of Public Comment Period.

SUMMARY: On January 6, 2014, USACE published a notice (79 FR 647) in the Federal Register soliciting public comments on the GLMRIS Report that presents a range of options and technologies available to prevent aquatic nuisance species (ANS) movement between the Great Lakes and Mississippi River basins through aquatic connections. Due to additional public meetings and public requests, USACE has extended the end of the public comment period from March 3, 2014 to March 31, 2014.

DATES: The comment due date is extended to March 31, 2014. Comments must be received on or before March 31, 2014. Please refer to the ADDRESSES section for instructions on comment submittal.

ADDRESSES: Interested persons are invited to submit comments in the following ways:

• GLMRIS project Web site: Use the web form found at http://glmris.anl.gov through March 31, 2014;

• Mail: Send written information to U. S. Army Corps of Engineers, Chicago District, GLMRIS ANS Control Comments, 231 S. LaSalle St., Suite 1500, Chicago, IL 60604. Comments must be postmarked by March 31, 2014; and

• Hand Delivery: Comments may be hand delivered to the USACE, Chicago District office located at 231 S. LaSalle St., Suite 1500, Chicago, IL 60604 between 8:00 a.m. and 4:30 p.m. Comments must be received by March 31, 2014.

Comments received during the comment period will be posted on the GLMRIS project Web site. You may indicate that you do not wish to have your name or other personal information made available on the Web site. However, USACE cannot guarantee that information withheld from the Web site will be maintained as confidential. Requests for disclosure of collected information will be handled through the Freedom of Information Act. Comments and information, including the identity of the submitter, may be disclosed, reproduced, and distributed. Submissions should not include any information that the submitter seeks to preserve as confidential.

FOR FURTHER INFORMATION CONTACT: For further information and/or questions about GLMRIS, please contact USACE, Chicago District, Project Manager, Mr. David Wethington, by mail: USACE, Chicago District, 231 S. LaSalle St., Suite 1500, Chicago, IL 60604, by phone: 312-846-5522 or by email: david.m.wethington@usace.army.mil.

For media inquiries, please contact USACE, Chicago District, Public Affairs Officer, Ms. Lynne Whelan, by mail: USACE, Chicago District, 231 S. LaSalle St., Suite 1500, Chicago, IL 60604, by phone: 312-846-5330 or by email: lynne.e.whelan@usace.army.mil.

SUPPLEMENTARY INFORMATION: 1. Background: USACE conducted GLMRIS in consultation with other federal agencies, Native American tribes, state agencies, local governments and non-governmental organizations. The GLMRIS authority directed USACE to identify the range of options and technologies available to prevent the spread of ANS between the Great Lakes and Mississippi River basins through the Chicago Sanitary and Ship Canal and other aquatic pathways. In GLMRIS, USACE has identified thirteen ANS of Concern established in one basin with the risk for transfer to the other, analyzed and evaluated available ANS controls, and formulated alternatives specifically for the Chicago Area Waterway System (CAWS) with the goal of preventing ANS transfer between the two basins.

2. The GLMRIS Report: The GLMRIS Report identifies eight potential alternatives—from continuing current efforts to complete separation of the watersheds, and evaluates the potential of these alternatives to control the inter-basin spread of thirteen ANS, which include fish (such as Asian carp), algae, crustaceans, plants and viruses. The report also identifies potential significant adverse impacts that alternatives may have on existing uses and users of the waterways, such as flood risk management, navigation, and water quality, and identifies mitigation measures that could be implemented to minimize these impacts.

Authority: This action is being undertaken pursuant to the Water Resources and Development Act of 2007, Section 3061, Pub. L. 110-114, and Section 1538 of Public Law 112-141 of the Moving Ahead for Progress in the 21st Century Act.

Dated: February 10, 2014.
Susanne J. Davis,
Chief, Planning Branch.

[FR Doc. 2014-03491 Filed 2-14-14; 8:45 am]

BILLING CODE 3720-58-P